DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: National Survey of Substance Abuse Treatment Services (N-SSATS) (OMB No. 0930-0106)—Revision

The Substance Abuse and Mental Health Services Administration (SAMHSA) is requesting a revision of the Drug and Alcohol Services Information System (DASIS) data collection (OMB No. 0930-0106), which expires on December 31, 2012. The request includes a name change for this OMB No. from “DASIS” to the “National Survey of Substance Abuse Treatment Services (N-SSATS),” since N-SSATS is the main survey component from the prior collection included in this request. N-SSATS provides both national and state-level data on the numbers and types of patients treated and the characteristics of facilities providing substance abuse treatment services. It is conducted under the authority of Section 505 of the Public Health Service Act (42 U.S.C. 290aa-4) to meet the specific mandates for annual information about public and private substance abuse treatment providers and the clients they serve.

This request includes:

• Collection of N-SSATS, which is an annual survey of substance abuse treatment facilities; and

• Updating of the associated substance abuse facility universe, now named the Inventory of Behavioral Health Services (I-BHS) (previously the Inventory of Substance Abuse Treatment Services (I-SATS)). The I-BHS includes all substance abuse treatment facilities known to SAMHSA. In addition, the inventory is being expanded to include mental health treatment facilities, making it a “behavioral health” inventory.

The information in I-BHS and N-SSATS is needed to assess the nature and extent of these resources, to identify gaps in services, and to provide a database for treatment referrals. Both I-BHS and N-SSATS are components of the Behavioral Health Services Information System (BHSIS) (previously DASIS), a system name change reflecting SAMHSA's emphasis on a more integrated behavioral health treatment system.

The request for OMB approval will include a request to update the I-BHS facility listing on a continuous basis and to conduct the N-SSATS and the between cycle N-SSATS (N-SSATS BC) in 2013, 2014, and 2015. The N-SSATS BC is a procedure for collecting services data from newly identified facilities between main cycles of the survey and will be used to improve the listing of treatment facilities in the online Substance Abuse Treatment Locator.

Planned Changes

I-BHS: As described above, the I-BHS database has been expanded to include mental health treatment facilities. The I-BHS Online forms, the I-BHS facility application form, and the augmentation screener questionnaire include a new question to determine if the facility provides mental health treatment services.

N-SSATS: The full N-SSATS will be conducted in alternate years, rather than every year as in the past, with an abbreviated N-SSATS questionnaire to update the Treatment Locator conducted in the interim years. Approval is requested for the following changes from 2012 to 2013 in the N-SSATS questionnaire:

A new question has been added to determine if the facility provides mental health treatment services. This question will help identify facilities that provide both substance abuse and mental health treatment services.

A question on the primary focus of the facility was dropped because it was found to be too subjective and less useful than asking directly about the services the facility provides. The new question will identify facilities that provide mental health treatment services.

New items have been added to determine if the facility offers treatment for gambling disorders, Internet use disorders or other non-substance abuse disorders.

A question on special programs was reformatted to reduce burden. The question previously had two parts, one to determine if particular kinds of clients were accepted at the facility and another to determine if the facility had special groups or programs for particular kinds of clients. The first part has been dropped. Adolescents, adult women and adult men have been broken out of the list of kinds of clients in order to ask if the facility services only clients in these groups. Two new categories have been added to determine if the facility has special programs for persons who have experienced intimate partner violence/physical abuse and persons who have experienced sexual abuse.

A new question has been added to ascertain the extent to which the facility has adopted health information technology in its operations.

Estimated annual burden for the DASIS activities is shown below:

Type of respondent and activity | Number of respondents | Responses per respondent | Total responses | Hours per response | Total burden hours | Wage rate | Total hour cost
States:
I-BHS Online ¹ | 56 | 140 | 7,840 | .08 | 627 | $22 | $13,794
State Subtotal | 56 |  | 7,840 |  | 627 |  | 13,794
Facilities:
I-BHS application ² | 600 | 1 | 600 | .08 | 48 | 16 | 768
Augmentation screener | 2,000 | 1 | 2,000 | .08 | 160 | 16 | 2,560
N-SSATS questionnaire | 17,000 | 1 | 17,000 | .58 | 9,860 | 37 | 364,820
N-SSATS BC | 2,000 | 1 | 2,000 | .42 | 840 | 37 | 31,080
Facility Subtotal | 21,600 |  | 21,600 |  | 10,908 |  | 399,228
Total | 21,656 |  | 29,440 |  | 11,535 |  | 413,022
¹ States use the I-BHS Online system to submit information on newly licensed/approved facilities and on changes in facility name, address, status, etc.
² New facilities complete and submit the online I-BHS application form in order to get listed on the Inventory.

Written comments and recommendations concerning the proposed information collection should be sent by November 21, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-25869 Filed 10-19-12; 8:45 am]

BILLING CODE 4162-20-P